FEDERAL COMMUNICATIONS COMMISSION

47 CFR Part 97

[WT Docket No. 19-348; Report No. 3163; FRS 17254]

Petition for Reconsideration of Action in Proceedings

AGENCY: Federal Communications Commission.

ACTION: Petition for Reconsideration.

SUMMARY: Petition for Reconsideration (Petition) has been filed in the Commission's proceeding by David R. Siddall, on behalf of ARRL, The National Association for Amateur Radio.

DATES: Oppositions to the Petition must be filed on or before December 22, 2020. Replies to an opposition must be filed on or before January 4, 2021.

ADDRESSES: Federal Communications Commission, 45 L Street NE, Washington, DC 20554.

FOR FURTHER INFORMATION CONTACT: Jon Markman, Wireless Telecommunications Bureau, (202) 418-7090.

SUPPLEMENTARY INFORMATION: This is a summary of the Commission's document, Report No. 3163, released November 16, 2020. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Facilitating Shared Use in the 3.1-3.55 GHz Band, FCC 20-138, published 85 FR 64062, October 9, 2020, in WT Docket No 19-348. This document is being published pursuant to 47 CFR 1.429(e). See also 47 CFR 1.4(b)(1) and 1.429(f), (g).

Number of Petitions Filed: 1.

Federal Communications Commission.
Marlene Dortch,
Secretary, Office of the Secretary.

[FR Doc. 2020-26805 Filed 12-4-20; 8:45 am]

BILLING CODE 6712-01-P